DEPARTMENT OF VETERANS AFFAIRS

VBA/VHA Musculoskeletal Forum: Improving VA's Disability Evaluation Criteria

AGENCY: Department of Veterans Affairs.

ACTION: Notice of meeting.

SUMMARY: The Department of Veterans Affairs (VA) will hold the Veterans Benefits Administration (VBA)/Veterans Health Administration (VHA) Musculoskeletal Forum: Improving VA's Disability Criteria to capture public comment and current medical science information from presentations made by subject matter experts. VA plans to use this information to update the sections of VA's Schedule for Rating Disabilities (VASRD) that pertain to diseases and injuries of the musculoskeletal system. See 38 CFR 4.40-4.73. Specifically, diagnostic code descriptors and evaluation criteria will be discussed. Contingent upon available capacity and time, individuals wishing to make oral statements will be accommodated on a first-come, first-served basis.

DATES: The meeting will be held on Tuesday, August 10, 2010, from 7:30 a.m. to 4:30 p.m.

ADDRESSES: The meeting will be held at the Capital Hilton, located at 1001 16th Street, NW., in Washington, DC.

FOR FURTHER INFORMATION CONTACT: Mr. Brad Tuttle, VASRD Coordinator, Compensation and Pension Service, Department of Veterans Affairs, 810 Vermont Avenue, NW., Washington, DC 20420. Anyone wishing to attend the meeting or seeking additional information may also contact Mr. Tuttle at (202) 461-9037 or Bradley.Tuttle2@va.gov, or Thomas Kniffen at (202) 461-9725 or Thomas.Kniffen@va.gov.

Dated: July 8, 2010.
John R. Gingrich,
Chief of Staff, Department of Veterans Affairs.

[FR Doc. 2010-17320 Filed 7-15-10; 8:45 am]

BILLING CODE 8320-01-P